DEPARTMENT OF THE INTERIOR

Fish and Wildlife Service

Currituck National Wildlife Refugee

AGENCY: Fish and Wildlife Service, Department of the Interior.

ACTION: Notice of availability of the Draft Comprehensive Conservation Plan and Environmental Assessment for Currituck National Wildlife Refuge in Currituck County, North Carolina.

SUMMARY: This notice announces that a Draft Comprehensive Conservation Plan and Environmental Assessment for Currituck National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

DATES: Individuals wishing to comment on the Draft Comprehensive Conservation Plan and Environmental Assessment for Currituck National Wildlife Refuge should do so no later than March 13, 2006. Public comments were requested, considered, and incorporated throughout the planning process in numerous ways. Public outreach has included scoping meetings, a review of the biological program, an ecosystem planning newsletter, and a Federal Register notice.

ADDRESSES: Requests for copies of the Draft Comprehensive Conservation Plan and Environmental Assessment should be addressed to Tim Cooper, Refuge Manager, Mackay Island National Wildlife Refuge, P.O. Box 39, Knotts Island, North Carolina 27950; Telephone (252) 429-3100; Fax (252) 429-3186. Our practice is to make comments, including names and home addresses of respondents, available for public review during regular business hours. Individual respondents may request that we withhold their home address from the record, which we will honor to the extent allowed by law.

SUPPLEMENTARY INFORMATION: The Service analyzed three alternatives for future management of the refuge and chose Alternative 2, an alternative that addresses the refuge's highest priorities.

Proposed goals for the refuge include:

• Conserve, protect, and maintain healthy and viable populations of migratory birds, wildlife, fish, and plants, including Federal and State endangered species and trust species.

• Restore, enhance, and maintain the health and biodiversity of beach and dune systems, maritime forests, and marsh habitats to ensure optimum ecological productivity and protect the water quality of Currituck Sound.

• Provide the public with safe, quality wildlife-dependent recreational and educational opportunities that focus on the wildlife and habitats of the refuge and the National Wildlife Refuge System.

• Protect refuge resources by limiting the adverse impacts of human activities and development.

• Acquire and manage adequate funding, human resources, facilities, equipment, and infrastructure to accomplish the other refuge goals.

Also available for review are draft compatibility determinations for recreational hunting, fishing, wildlife observation, wildlife photography, and environmental education and interpretation.

Alternatives

Alternative 1 maintains the status quo. The refuge would manage very intensively the water levels of the impoundments and the vegetation to create 50 parent good vegetation for migrating waterfowl, but would not manage for mudflats for shorebirds. It would also manage marshes with prescribed fire. The staff would survey waterfowl on a routine basis. The refuge would allow the six priority public use activities: hunting, fishing, wildlife observation, wildlife photography, and environmental education and interpretation. The staff would conduct environmental education and interpretation on a request basis only. There would be no staff stationed at Currituck National Wildlife Refuge. Seven staff members would serve the refuge and be stationed at Mackay Island National Wildlife Refuge. They would spend 2.85 staff years at Currituck Refuge and 4.15 full time equivalent staff years at Mackay Island National Wildlife Refuge.

Alternative 2 proposes moderate program increases. The refuge would develop a habitat management plan and manage all habitats on the refuge. The refuge would manage very intensively the water levels of the impoundments and the vegetation to create 60 percent good vegetation for migrating waterfowl and 20 percent mudflats in the spring for shorebirds when feasible. The Service would add new impoundments. The staff would monitor vegetation in the marshes before and after prescribed burns and inventory vegetation in the maritime swamp forest. They would survey a wide range of wildlife on the refuge. The refuge would continue to allow the six priority public use activities, but would have the capacity to increase the number of opportunities. The staff would conduct regularly schedule environmental education and interpretation programs. The Service would partner with the North Carolina Wildlife Resources Commission to use the environmental education center being built by the Commission in corolla. There would be fifteen staff members, four of whom would be stationed at Currituck Refuge and eleven of whom would be stationed at Mackay Island Refuge. They would spend 7.2 full time equivalent staff years at Currituck Refuge and 7.8 full time equivalent staff years at Mackay Island Refuge. The staff would include a biologist, public use specialist, refuge operations specialist, and law enforcement officer.

Alternative 3 proposes substantial program increases. The refuge would develop a habitat management plan and manage all habitats on the refuge. The refuge would manage very intensively the water levels of the impoundments and the vegetation to create 70 percent good vegetation for migrating waterfowl, and 20 percent mudflats in the spring and 10 percent in the fall for shorebirds. The Service would add new impoundments. The staff would survey invertebrates in the mudflats to determine the effects of management. The staff would monitor vegetation in the marshes before and after prescribed burns, adapt the burn plan to the monitoring results, and inventory vegetation in the maritime swamp forest. The staff would survey all wildlife on the refuge. The refuge would increase further the number of public use opportunities. The Service would use the environmental education center being built by the North Carolina Wildlife Resources Commission. There would be twenty-four staff members, seven of whom would be stationed at Currituck Refuge and seventeen of whom would be stationed at Mackay Island Refuge. They would spend 12.75 full time equivalent staff years at Currituck Refuge and 11.25 full time equivalent staff years at Mackay Island Refuge. The staff would include separate law enforcement officers and public use specialists for each refuge.

Actions Common to All Alternatives

All three alternatives share the following concepts and techniques for achieving the goals of the refuge:

• Cooperating with local, State, and Federal agencies, as well as non-government organizations, to administer refuge programs;

• Utilizing volunteers to execute the public use, biological, and maintenance programs on the refuge;

• Monitoring populations of waterfowl, shorebirds, and wading birds, and vegetation in the refuge impoundments;

• Maintaining vegetation in the marsh with prescribed fire; and

• Encouraging scientific research on the refuge.

Currituck National Wildlife Refuge, in northeastern North Carolina, consists of 4,570 acres of fee simple land and 3,931 acres of conservation easements. Of the fee simple land, 2,202 acres are brackish marsh, 778 acres are brackish shrub, 637 acres are maritime forest, 202 acres are dune, and 143 acres are managed wetlands (impoundments). These habitats support a variety of wildlife species, including waterfowl, shorebirds, wading birds, marsh birds, and neotropical migratory songbirds.

The refuge hosts more than nineteen thousand visitors annually, who participate in hunting, fishing, wildlife observation, wildlife photography, and environmental education and interpretation.

Authority: This notice is published under the authority of the National Wildlife Refuge System Improvement Act of 1997, Public Law 105-57.

Dated: April 29, 2005.
Cynthia K. Dohner,
Acting Regional Director.

[FR Doc. 06-1200 Filed 2-8-06; 8:45 am]

BILLING CODE 4310-55-M